DEPARTMENT OF ENERGY

Federal Energy Regulatory Commission

[Project No. 14205-000]

Notice of Preliminary Permit Application Accepted for Filing and Soliciting Comments, Motions To Intervene, and Competing Applications; McKay Dam Hydropower, LLC

On May 31, 2011, McKay Dam Hydropower, LLC filed an application for a preliminary permit, pursuant to section 4(f) of the Federal Power Act (FPA), proposing to study the feasibility of the McKay Dam Hydroelectric Project (project) to be located at the McKay dam near Pendleton in Umatilla County, Oregon. The existing McKay dam was built and operated by the U.S. Bureau of Reclamation (Reclamation). The project would occupy land within the McKay Creek National Wildlife Refuge. The sole purpose of a preliminary permit, if issued, is to grant the permit holder priority to file a license application during the permit term. A preliminary permit does not authorize the permit holder to perform any land-disturbing activities or otherwise enter upon lands or waters owned by others without the owners' express permission.

The proposed project would utilize flows at the existing McKay reservoir, and would consist of the following new features: (1) A 48-inch diameter, 250-foot-long steel-reinforced plastic pipe penstock; (2) a 40-foot by 30-foot concrete powerhouse containing a 3-megawatt turbine/generator; (3) an approximately 2,000-foot-long, 12.5-kilovolt transmission line interconnecting to a local utility line; and (4) appurtenant facilities. The estimated annual generation of the project would be 7.4 gigawatt-hours.

Applicant Contact: Carl Spetzler, McKay Dam Hydropower, LLC, 745 Emerson Street, Palo Alto, CA 94301, phone (650) 475-4467.

FERC Contact: Patrick Murphy, phone: (202) 502-8755.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of the Commission's Web site at http://www.ferc.gov/docs-filing/elibrary.asp. Enter the docket number (P-14205-000) in the docket number field to access the document. For assistance, contact FERC Online Support.

Dated: September 9, 2011.
Kimberly D. Bose,
Secretary.

[FR Doc. 2011-23739 Filed 9-15-11; 8:45 am]

BILLING CODE 6717-01-P